DEPARTMENT OF JUSTICE

[OMB No. 1121-0065]

Agency Information Collection Activities: Existing Collection; Comments Requested: Extension of a Currently Approved Collection; National Corrections Reporting Program (NCRP)

ACTION: 60-Day Notice.

The Department of Justice (DOJ), Bureau of Justice Statistics, will be submitting the following information collection request to the Office of Management and Budget (OMB) for review and approval in accordance with the Paperwork Reduction Act of 1995. The proposed information collection is published to obtain comments from the public and affected agencies. Comments are encouraged and will be accepted for “sixty days” until August 14, 2012. This process is conducted in accordance with 5 CFR 1320.10.

If you have comments especially on the estimated public burden or associated response time, suggestions, or need a copy of the proposed information collection instrument with instructions or additional information, please contact Elizabeth Ann Carson, Ph.D., Bureau of Justice Statistics, 810 Seventh Street NW., Washington, DC 20531 (phone: 202-616-3496).

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: National Corrections Reporting Program. The collection includes the forms: Prisoner Admission Report, Prisoner Release Report, Parole Release Report, Prisoners in Custody at Yearend Report.

(3) Agency form number, if any, and the applicable component of the Department of Justice sponsoring the collection: Form number(s): NCRP-1A, NCRP-1B, NCRP-1C, and NCRP-1D. Corrections Statistics Unit, Bureau of Justice Statistics, Office of Justice Programs, United States Department of Justice.

(4) Affected public who will be asked or required to respond, as well as a brief abstract: The National Corrections Reporting Program (NCRP) is the only national data collection furnishing annual individual-level information for state prisoners at four points in the incarceration process: prison admission; prison release; annual yearend prison custody census; and discharge from parole/community corrections supervision. BJS, the U.S. Congress, researchers, and criminal justice practitioners use these data to describe annual movements of adult offenders through state correctional systems, as well as to examine long term trends in time served in prison, demographic and offense characteristics of inmates, sentencing practices in the states that submit data, transitions between incarceration and community corrections, and recidivism. Providers of the data are personnel in the states' Departments of Corrections and Parole, and all data are submitted on a voluntary basis. The NCRP collects the following administrative data on each inmate in participating states' custody:

• County of sentencing

• State inmate identification number

• Dates of: birth; prison admission; prison release; parole discharge; parole eligibility hearing; projected prison release; mandatory prison release

• First and last names

• Demographic information: sex; race; Hispanic origin; education level

• Offense type and number of counts per inmate for a maximum of three convicted offenses per inmate

• Prior time spent in prison and jail, and prior felony convictions

• Total sentence length imposed

• Additional offenses and sentence time imposed since prison admission

• Type of facility where inmate is serving sentence (for yearend custody census records only, the name of the facility is requested)

• Type of prison admission

• Type of prison release

• Whether inmate was AWOL/escape during incarceration

• Agency assuming custody of inmate released from prison (parole records only)

• Supervision status prior to discharge from parole and type of discharge

In addition, BJS is requesting OMB clearance to add the following items to the NCRP collection, all of which are likely available from the same databases as existing data elements, and should therefore pose minimal additional burden to the respondents, while greatly enhancing BJS' ability to better characterize the corrections systems and populations it serves:

• Date and type of parole admission

• Location of parole discharge or parole office

• FBI identification number

• Prior military service, date and type of last discharge

BJS uses the information gathered in NCRP in published reports and statistics. The reports will be made available to the U.S. Congress, Executive Office of the President, practitioners, researchers, students, the media, others interested in criminal justice statistics, and the general public via the BJS Web site.

(5) An estimate of the total number of respondents and the amount of time estimated for an average respondent to respond: BJS anticipates 57 respondents to NCRP for report year 2012: 50 state respondents; the California Juvenile Justice Division; and six separate state parole boards. Each respondent currently submitting NCRP data will require an estimated 28 hours of time to supply the information for their annual caseload and an additional 3 hours documenting or explaining the data for a total of 1,200 hours. For the 15 states which have never submitted data or are returning to NCRP submission following a lapse of several years, the total first year's burden estimate is 933 hours, which includes the time required for developing or modifying computer programs to extract the data, performing and checking the extracted data, and submitting it electronically to BJS' data collection agency via SFTP. The total burden for all 57 NCRP data providers is 2,133 hours for report year 2012. Starting with report year 2013, this burden will decrease to 1,326 hours since all states will have data extract programs created and need only make minor modifications to obtain report year 2013 data. All states submit data via a secure file transfer protocol (SFTP) electronic upload.

(6) An estimate of the total public burden (in hours) associated with the collection: There are an estimated 2,133 total burden hours associated with this collection for report year 2013.

If additional information is required contact: Jerri Murray, Department Clearance Officer, United States Department of Justice, Justice Management Division, Policy and Planning Staff, Two Constitution Square, 145 N Street NE., Washington, DC 20530.

Jerri Murray,
Department Clearance Officer, PRA, U.S. Department of Justice.

[FR Doc. 2012-14612 Filed 6-14-12; 8:45 am]

BILLING CODE 4410-18-P